DEPARTMENT OF THE TREASURY

Submission for OMB Review; Comment Request

November 9, 2007.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 19, 2007 to be assured of consideration.

Internal Revenue Service (IRS)

OMB Number: 1545-1317.

Type of Review: Extension.

Title: NTL-79-91 (Final) Information Returns Required of United States Persons with Respect to Certain Foreign Corporations.

Description: These regulations clarify certain requirements of sections 1.6035-1, 1.6038-2 and 1.6046-1 of the Income Tax Regulations relating to Form 5471 and affect controlled foreign corporations and their United States shareholders.

Respondents: Businesses and other for-profits.

Estimated Total Burden Hours: 1 hour.

OMB Number: 1545-1361.

Type of Review: Extension.

Title: PS-89-91 (Final) Exports of Chemicals That Deplete the Ozone Layer; Special Rules for Certain Medical Uses of Chemicals That Deplete the Ozone Layer.

Description: Section 4681 imposes a tax on ozone-depleting chemicals sold or used by a manufacturer or importer thereof. Section 4682 provides exemptions and reduced rates of tax for certain uses of ozone-depleting chemicals. This regulation provides reporting and recordkeeping rules.

Respondents: Businesses and other for-profit institutions.

Estimated Total Burden Hours: 201 hours.

OMB Number: 1545-1743.

Type of Review: Extension.

Title: Summary of Archer MSAs.

Description: This form is used by the IRS to determine whether numerical limits set forth in section 220(j)(1) have been exceeded.

Respondents: Businesses and other for-profits.

Estimated Total Burden Hours: 1,540,000 hours.

OMB Number: 1545-1341.

Type of Review: Extension.

Title: EE-43-92 (Final) Direct Rollovers and 20-Percent Withholding Upon Eligible Rollover Distributions from Qualified Plans.

Description: These regulations provide rules implementing the provisions of the Unemployment Compensation Amendments (Pub. L. 102-318) requiring 20 percent income tax withholding upon certain distributions from qualified pension plans or tax-sheltered annuities.

Respondents: Individuals or households.

Estimated Total Burden Hours: 2,129,669 hours.

OMB Number: 1545-1904.

Type of Review: Extension.

Title: Revenue Procedure 2004-56, Model 457 Plan Provisions.

Description: This revenue procedure contains model amendments to be used by section 457(b) plans (deferred compensation plans) of state or local governments.

Respondents: State, Local, or Tribal Governments.

Estimated Total Burden Hours: 41,040 hours.

OMB Number: 1545-1416.

Type of Review: Extension.

Title: Credit for Contributions to Selected Community Development Corporations.

Form: 8847.

Description: Form 8847 is used to claim a credit for qualified contributions to a selected community development corporation (CDC).

Respondents: Businesses or other for-profit institutions.

Estimated Total Burden Hours: 41 hours.

OMB Number: 1545-1201.

Type of Review: Revision.

Title: REG-152549-03 (NPRM/Temporary) Section 179 Elections; TD 8455 (Final) Election to Expense Certain Depreciable Business Assets.

Description: The regulations provide rules on the election described in section 179(b)(4); the apportionment of the dollar limitation among component members of a controlled group; the proper order for deducting the carryover of disallowed deduction; and the maintenance of information which permits the specific identification of each piece of section 179 property and reflects how and from whom such property was acquired and when such property was placed in service. The recordkeeping and reporting is necessary to monitor compliance with the section 179 rules.

Respondents: Businesses and other for-profits.

Estimated Total Burden Hours: 3,022,500 hours.

OMB Number: 1545-2072.

Type of Review: Extension.

Title: RP-144921-06 Statistical Sampling for purposes of Section 199.

Description: The revenue procedure provides for determining when statistical sampling may be used for purposes of section 199, which provides a deduction for income attributable to domestic production activities, and establishes acceptable statistical sampling methodologies. The collection of information in the proposed revenue procedure involves a recordkeeping requirement for taxpayer that use statistical sampling under section 199.

Respondents: Businesses and other for-profits.

Estimated Total Burden Hours: 2,400 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-22601 Filed 11-16-07; 8:45 am]

BILLING CODE 4830-01-P